DEPARTMENT OF ENERGY

Federal Energy Regulatory Commission

[Docket No. RP04-143-000]

TransColorado Gas Transmission Company; Notice of Tariff Filing

January 30, 2004.

Take notice that on January 26, 2004, TransColorado Gas Transmission Company (TransColorado) tendered for filing to become part of its FERC Gas Tariff, First Revised Volume No. 1, the following tariff sheets, to become effective March 1, 2004:

Second Revised Sheet No. 200

Original Sheet No. 268

Original Sheet No. 269

Sheet Nos. 270—299

TransColorado states that it is making this filing to clarify its discounting provisions to the General Terms and Conditions of TransColorado's FERC Gas Tariff to reflect the order in which the components of the maximum rate shall be discounted, and generic types of discount agreements that TransColorado may enter into with shippers on its system without creating a material deviation from TransColorado's pro forma service agreement.

TransColorado states that a copy of this filing has been served upon all of its customers and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-210 Filed 2-5-04; 8:45 am]

BILLING CODE 6717-01-P